DEPARTMENT OF THE INTERIOR

Fish and Wildlife Service

National Wildlife Refuge System; Big Game Guide Permits; Solicitations and Extensions

AGENCY: Fish and Wildlife Service, Interior.

ACTION: Notice of solicitation of applications for refuge big game guide permits and extension of existing refuge permits.

SUMMARY: The Fish and Wildlife Service is soliciting proposals to conduct commercial big game guide services on National Wildlife Refuges in Alaska for a 5-year period beginning in 2004. We are also providing a 6-month extension of existing big game guide permits.

DATES: The application period opens November 14, 2002. Applications must be received at the address indicated below by 4 p.m., Friday, February 28, 2003.

FOR MORE INFORMATION CONTACT: Tony Booth, U.S. Fish and Wildlife Service, Division of Visitor Services and Communications, 1011 East Tudor Road MS 235, Anchorage, Alaska, 99503; telephone (907) 786-3357; e-mail tony_booth@fws.gov.

SUPPLEMENTARY INFORMATION: The Fish and Wildlife Service is requesting proposals to conduct commercial big game guide services within designated guide use areas in each of the National Wildlife Refuges in Alaska. The Service will award special use permits to successful applicants authorizing them to provide commercial guide services to the public in specific refuge guide use areas for the period of January 1, 2004, through December 31, 2008. We will award the permits through a competitive selection process in which qualified big game guides may apply for specific refuge areas offered by the Service. Each application or proposal will be evaluated and scored/ranked according to evaluation criteria and selection factors developed by the Service.

The application period will begin on the date specified in the DATES section near the beginning of this notice. We will send a letter to all registered big game guides in the State of Alaska providing information on the guide areas being offered and application instructions. We are also publishing notices in Anchorage and Fairbanks newspapers that provide general circulation in Alaska. Applications are available to any interested party by calling or writing to the above address. Applicants must postmark their proposals or hand deliver them to the above address by Friday, February 28, 2003.

The Service is also providing notice that we are extending the expiration date of existing Alaska National Wildlife Refuge big game guide permits and the competitive guide selection process for 6 months. This 6-month extension will put all permits on a calendar year cycle. The big game guide permits currently in effect for the refuge use areas being offered will expire on June 30, 2003. We are extending the expiration date of these permits to December 31, 2003. We are moving the effective date for new guide permits from July 1, 2003, to January 1, 2004.

The Service issued 12 big game guide permits under the competitive selection process in 1999 to fill vacant guide use areas where we did not renew permits. These permits are slated to expire on June 30, 2004. This notice extends the terms of these permits to December 31, 2004, to make them consistent with the calendar year cycle as well. The new permit cycle will be consistent with most other State and Federal licensing and permitting requirements for Alaska big game guides. The State of Alaska Division of Occupational Licensing administers hunting guide and transporter licenses on a calendar year basis.

The extension in the selection process was also necessary to allow the Service to extend the public review period for the proposed revisions of the evaluation factors and guidance that we will use to score and rank guide applications. This was done in response to public requests, and to provide a longer and more reasonable application period for big game guide permits. The extension of the permitting process will accommodate flexibility to extend the permit application deadline further into the winter, well after the fall hunting season, and thereby allow guides more reasonable time to prepare their applications during the slower time of year for the guiding industry.

Alaska refuge permit regulations (50 CFR part 36.41(e)(10)) require the Service to issue competitively awarded permits for 5-year terms (except where permits are issued to fill vacancies occurring during a scheduled award cycle). The regulations require the refuge manager to renew the permits noncompetitively for 5 additional years, if the permittee applies for the renewal, and has maintained a satisfactory record of performance and complied with all applicable permit terms and conditions. The regulations state that after one renewal the Service will not extend or noncompetitively renew another permit. We are providing 6-month extensions to all existing guide permits, in addition to the 5-year renewals cited above. Therefore, the 6-month extensions require a one time waiver of the Alaska refuge permit regulations.

Dated: August 29, 2002.
David B. Allen,
Regional Director.

[FR Doc. 02-28871 Filed 11-13-02; 8:45 am]

BILLING CODE 4310-55-P